DEPARTMENT OF THE INTERIOR

Office of the Secretary

[245D0102DM, DS600000, DLSN00000.000000, DX6CS25; OMB Control Number 1040-0001]

Agency Information Collection Activities; DOI Programmatic Clearance for Customer Satisfaction Surveys

AGENCY: Office of the Secretary, Interior.

ACTION: Notice of information collection; request for comment.

SUMMARY: In accordance with the Paperwork Reduction Act of 1995, the Office of the Secretary are proposing to renew an information collection, without change.

DATES: Interested persons are invited to submit comments on or before August 22, 2024.

ADDRESSES: Written comments and recommendations for the proposed information collection should be sent within 30 days of publication of this notice to www.reginfo.gov/public/do/PRAMain. Find this particular information collection by selecting “Currently under Review—Open for Public Comments” or by using the search function. Please provide a copy of your comments to the Departmental Information Collection Clearance Officer (ICCO), 1849 C Street NW Washington, DC 20240; or by email to PRA@ios.doi.gov. Please reference OMB Control Number 1040-0001 in the subject line of your comments.

FOR FURTHER INFORMATION CONTACT: To request additional information about this ICR, contact Jeffrey Parrillo, Departmental ICCO, 1849 C Street NW Washington, DC 20240; email to PRA@ios.doi.gov., or by telephone at 202-208-7072. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 4, 2024 (89 FR 23607). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Government Performance and Results Act of 1993 (GPRA) (Pub. L. 103-62) requires agencies to “improve Federal program effectiveness and public accountability by promoting a new focus on results, service quality, and customer satisfaction.” To fulfill this responsibility, Department of the Interior (DOI, Interior) bureaus and offices must collect data from their respective user groups to better understand the needs and desires of the public and to respond accordingly. Executive Order 12862 “Setting Customer Service Standards” also requires all executive departments to “survey customers to determine . . . their level of satisfaction with existing services.” We use customer satisfaction surveys to help us fulfill our responsibilities to provide excellence in government by proactively consulting with those we serve. This programmatic clearance provides an expedited approval process for DOI bureaus and offices to conduct customer research through external surveys such as questionnaires and comment cards.

The proposed renewal covers all of the organizational units and bureaus in DOI. Information obtained from customers by bureaus and offices will be provided voluntarily. No one survey will cover all the topic areas; rather, these topic areas serve as a guide within which the bureaus and offices will develop questions. Questions may be asked in languages other than English (e.g., Spanish) where appropriate. Topic areas include:

(1) Delivery, quality, and value of products, information, and services. Respondents may be asked for feedback regarding the following attributes of the information, service, and products provided:

(a) Timeliness.

(b) Consistency.

(c) Accuracy.

(d) Ease of Use and Usefulness.

(e) Ease of Information Access.

(f) Helpfulness.

(g) Quality.

(h) Value for fee paid for information/product/service.

(2) Management practices. This area covers questions relating to how well customers are aware of or satisfied with DOI management practices and processes, what improvements they might make to specific processes, and whether or not they feel specific issues were addressed and reconciled in a timely, courteous, and responsive manner.

(3) Mission management. We will ask customers to provide information of their existing knowledge, agreement, or satisfaction related to DOI's ability to protect, conserve, provide access to, provide scientific data about, and preserve natural, cultural, and recreational resources that we manage, and how well we are carrying out our trust responsibilities to American Indians.

(4) Rules, regulations, policies. This area focuses on obtaining feedback from customers regarding fairness, adequacy, and consistency in enforcing rules, regulations, and policies for which DOI is responsible. It will also help us understand public awareness of rules and regulations and whether or not they are explained in a clear and understandable manner.

(5) Interactions with DOI Personnel and Contractors. Questions will range from timeliness and quality of interactions to skill level of staff providing the assistance, as well as their courtesy and responsiveness during the interaction.

(6) General demographics. Some general demographics may be gathered to augment satisfaction questions so that we can better understand the customer and improve how we serve that customer. We may ask customers how many times they have used a service, visitation logistics including timing, distance traveled, and costs, as well as general characteristics (e.g., race, age, residency, etc.) about themselves and their group.

(7) Experience and perceptions. This topic focuses on gathering specific details about the DOI experiences including logistics and planning, motivation for participating, and activities, as well as perceptions about the values, interactions, and activities. Similar to demographics, this information may augment satisfaction questions so that we can better understand the customer and improve how we serve that customer.

All requests to collect information under the auspices of this proposed renewal will be carefully evaluated to ensure consistency with the intent, requirements, and boundaries of this programmatic clearance. Interior's Office of Policy Analysis will conduct an administrative and technical review of each specific request in order to ensure statistical validity and soundness. All information collections are required to be designed and deployed based upon acceptable statistical practices and sampling methodologies, and procedures that account for and minimize non-response bias, in order to obtain consistent, valid data and statistics that are representative of the target populations.

Title of Collection: DOI Programmatic Clearance for Customer Satisfaction Surveys.

OMB Control Number: 1040-0001.

Form Number: DI-4010.

Type of Review: Extension of a currently approved collection.

Respondents/Affected Public: DOI customers, stakeholders, and partners. We define customers as anyone who uses, or could potentially use, DOI resources, products, or services. This includes past, current, and potential customers (e.g., the American public, representatives of the private sector, academia, and other government agencies). We define stakeholders to mean groups or individuals who have an expressed interest in and who seek to influence the present and future state of DOI's resources, products, and services. We define partners as those groups, individuals, and agencies who are formally engaged in helping DOI accomplish its mission.

Total Estimated Number of Annual Respondents: 65,000.

Total Estimated Number of Annual Responses: 65,000.

Average Completion Time per Response: 10 minutes.

Total Estimated Number of Annual Burden Hours: 10,833 hours.

Respondent's Obligation: Voluntary.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Jeffrey Parrillo,
Departmental Information Collection Clearance Officer.

[FR Doc. 2024-16124 Filed 7-22-24; 8:45 am]

BILLING CODE 4334-63-P